DEPARTMENT OF ENERGY

Federal Energy Regulatory Commission

Combined Notice of Filings #2

Take notice that the Commission received the following electric rate filings:

Docket Numbers: ER17-1840-000.

Applicants: Canton Mountain Wind, LLC.

Description: Fifth Supplement to June 15, 2017 Canton Mountain Wind, LLC tariff filing.

Filed Date: 9/28/17.

Accession Number: 20170928-5074.

Comments Due: 5 p.m. ET 10/10/17.

Docket Numbers: ER17-2554-000.

Applicants: Midcontinent Independent System Operator, Inc.

Description: § 205(d) Rate Filing: 2017-09-28_SA 2997 Palo Alto Wind-MidAmerican 1st Rev GIA (J529 J590) to be effective 9/14/2017.

Filed Date: 9/28/17.

Accession Number: 20170928-5065.

Comments Due: 5 p.m. ET 10/19/17.

Docket Numbers: ER17-2555-000.

Applicants: PacifiCorp.

Description: Tariff Cancellation: Termination of Lower Valley Energy? Ancillary Services Agreement to be effective 9/30/2017.

Filed Date: 9/28/17.

Accession Number: 20170928-5104.

Comments Due: 5 p.m. ET 10/19/17.

Docket Numbers: ER17-2556-000.

Applicants: PacifiCorp.

Description: Tariff Cancellation: Termination of UAMPS Price Construct Agmt to be effective 11/29/2017.

Filed Date: 9/28/17.

Accession Number: 20170928-5105.

Comments Due: 5 p.m. ET 10/19/17.

Docket Numbers: ER17-2557-000.

Applicants: New England Power Company.

Description: § 205(d) Rate Filing: Large Generator Interconnection Agrmnt with Wheelabrator Millbury & CEII Request to be effective 9/26/2017.

Filed Date: 9/28/17.

Accession Number: 20170928-5132.

Comments Due: 5 p.m. ET 10/19/17.

Take notice that the Commission received the following electric securities filings:

Docket Numbers: ES17-59-000.

Applicants: Portland General Electric Company.

Description: Application of Portland General Electric Company for Authority to Issue Short-Term Debt Securities.

Filed Date: 9/28/17.

Accession Number: 20170928-5129.

Comments Due: 5 p.m. ET 10/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2017.
Nathaniel J. Davis, Sr.,
Deputy Secretary.

[FR Doc. 2017-21298 Filed 10-3-17; 8:45 am]

BILLING CODE 6717-01-P